SOCIAL SECURITY ADMINISTRATION

Privacy Act of 1974, as Amended; New System of Records

AGENCY: Social Security Administration (SSA).

ACTION: Proposed new system of records and proposed routine uses.

SUMMARY: In accordance with the Privacy Act (5 U.S.C. 552a(e)(4)) and (e)(11)), we are issuing public notice of our intent to establish a new system of records, entitled the Representative Payee and Beneficiary Survey Data System, 60-0370, and routine uses applicable to this system of records. Hereinafter, we will refer to the proposed system of records as the RPBSD system. We invite public comment on this proposal.

DATES: We filed a report of the proposed new system of records and proposed routine use disclosures with the Chairman of the Senate Committee on Homeland Security and Governmental Affairs, the Chairman of the House Committee on Government Reform, and the Director, Office of Information and Regulatory Affairs, Office of Management and Budget on March 17, 2006. The proposed system of records and routine uses will become effective on April 26, 2006, unless we receive comments warranting them not to become effective.

ADDRESSES: Interested individuals may comment on this publication by writing to the Executive Director, Office of Public Disclosure, Office of the General Counsel, Social Security Administration, Room 3-A-6 Operations Building, 6401 Security Boulevard, Baltimore, Maryland 21235-6401. All comments received will be available for public inspection at the above address.

FOR FURTHER INFORMATION CONTACT: Contact Margo Wagner, Social Insurance Specialist, Disclosure Policy Team, Office of Public Disclosure, Office of the General Counsel, Social Security Administration, in Room 3-A-6 Operations Building, 6401 Security Boulevard, Baltimore, Maryland 21235-6401, telephone at (410) 965-1482, e-mail: margo.wagner@ssa.gov.

SUPPLEMENTARY INFORMATION:

I. Background and Purpose of the Proposed RPBSD System

A. General Background

The proposed new RPBSD system will support SSA's compliance with Section 107 of Pub. L. No. 108-203, the Social Security Protection Act of 2004, that amended Section 1110 of the Social Security Act (42 U.S.C. 1310) by mandating SSA to perform a study to determine how payments made to representative payees under Title II or Title XVI of the Social Security Act are managed and used on behalf of the beneficiaries of these programs. The proposed new system will maintain information collected during the course of a cross-sectional national survey of representative payees and a subsample of beneficiaries. The survey data in this proposed new system will be the basis for the mandated study and a subsequent report outlining the Agency's findings and recommendations for change or further review of SSA's representative payment policies. Information in this system will also be used for ongoing assessment of how payments made to representative payees are managed and used on behalf of beneficiaries.

B. Collection and Maintenance of the Data for the RPBSD System

The information that SSA will collect and maintain in the RPBSD system will consist of data gathered during a specific study period to assess SSA's representative payee policies. This data will include identifiable information, such as name, Social Security number (SSN) and address of selected representative payees and beneficiaries who agree to participate in the associated survey and other pertinent information, such as financial account information related to benefit payments and information associated with the representative payee's particular responsibilities while acting in that capacity. We will retrieve information from the proposed system by using the individual's name and/or SSN. Thus, the RPBSD System will constitute a system of records under the Privacy Act.

II. Proposed Routine Use Disclosures of Data Maintained in the Proposed RPBSD System

A. Proposed Routine Use Disclosures

1. We are proposing to establish routine uses of information that will be maintained in the proposed RPBSD System as discussed below.

To the Office of the President for the purpose of responding to an individual pursuant to an inquiry received from that individual or from a third party on his or her behalf.

We will disclose information under this routine use only in situations in which an individual may contact the Office of the President, seeking that Office's assistance in a matter relating to information contained in this system of records. Information will be disclosed when the Office of the President makes an inquiry and indicates that it is acting on behalf of the individual whose record is requested.

2. To a congressional office in response to an inquiry from that office made at the request of the subject of a record.

We will disclose information under this routine use only in situations in which an individual may ask his or her congressional representative to intercede in a matter relating to information contained in this system of records. Information will be disclosed when the congressional representative makes an inquiry and indicates that he or she is acting on behalf of the individual whose record is requested.

3. To a contractor under contract to the Social Security Administration (SSA), or under contract to another agency with funds provided by SSA, for the performance of research and statistical activities as directly related to this system of records.

We will disclose information under this routine use only as necessary to enable a contactor to assist SSA in accomplishing an Agency function relating directly to this system of records.

4. To the Department of Justice (DOJ), a court or other tribunal, or another party before such tribunal when:

(a) The Social Security Administration (SSA), or any component thereof; or

(b) any SSA employee in his/her official capacity; or

(c) any SSA employee in his/her individual capacity where DOJ (or SSA where it is authorized to do so) has agreed to represent the employee; or

(d) the United States or any agency thereof where SSA determines that the litigation is likely to affect the operation of SSA or any of its components,

is a party to litigation or has an interest in such litigation, and SSA determines that the use of such records by DOJ, a court or other tribunal, or another party before such tribunal, is relevant and necessary to the litigation, provided, however, that in each case SSA determines that such disclosure is compatible with the purpose for which the records were collected.

We will disclose information under this routine use only as necessary to enable DOJ to effectively defend SSA, its components or employees in litigation involving the proposed new system of records and ensure that courts and other tribunals have appropriate information.

5. To student volunteers, individuals working under a personal service contract, and other workers who technically do not have the status of Federal employees, when they are performing work for the Social Security Administration (SSA), as authorized by law and they need access to personally identifiable information in SSA records in order to perform their assigned Agency functions.

Under certain Federal statutes, SSA is authorized to use the service of volunteers and participants in certain educational, training, employment and community service programs. Examples of such statutes and programs include: 5 U.S.C. 3111 regarding student volunteers and 42 U.S.C. 2753 regarding the College Work-Study Program. We contemplate disclosing information under this routine use only when SSA uses the services of these individuals and they need access to information in this system to perform their assigned Agency duties.

B. Compatibility of Proposed Routine Uses

The Privacy Act (5 U.S.C. 552a(b)(3)) and our disclosure regulations (20 CFR part 401) permit us to disclose information under a published routine use for a purpose that is compatible with the purpose for which we collected the information. Section 401.150(c) of SSA regulations permits us to disclose information under a routine use where necessary to carry out SSA programs. The proposed routine uses will ensure SSA's efficient administration of its programs related to the Agency's representative payment policies. Thus, all routine uses are appropriate and meet the relevant statutory and regulatory criteria.

III. Record Storage Medium and Safeguards for the Information Maintained in the Proposed RPBSD System

The proposed new system of records will maintain information in electronic and manual forms. Only authorized SSA and contractor personnel who have a need for the information in the performance of their official duties are permitted access to the information. We will safeguard the security of the information by requiring the use of access codes to enter the computer system that will maintain the data and will store computerized records in secured areas that are accessible only to employees who require the information in performing their official duties. Manually maintained records are kept in locked cabinets or in otherwise secure areas.

All SSA personnel receive annual reminders of the need to protect personal data to which they have access for official purposes and are reminded of the criminal penalties that apply to unauthorized access to or disclosure of personal information. See 5 U.S.C. 552a(i)(1). Furthermore, SSA employees having access to SSA databases maintaining personal information must sign a sanction document annually, acknowledging their accountability for making unauthorized access to or disclosure of such information.

Contractor personnel having access to data in the proposed system of records will be required to adhere to SSA rules concerning safeguards, access and use of the data.

IV. Effect of the Proposed RPBSD System on the Rights of Individuals

The proposed RPBSD system consists of data gathered during a specific period to assess SSA's representative payee policies and prepare a subsequent report outlining potential recommendations for change or further review. Participation in the survey is voluntary and selected individuals will be given the opportunity to agree to participate in the survey or decline to do so. SSA will adhere to all applicable provisions of the Privacy Act and other Federal statutes that govern our use and disclosure of the information that will be maintained in the proposed RPBSD system. Therefore, we do not anticipate that the proposed system of records will have any unwarranted adverse effect on the privacy or other rights of individuals.

Dated: March 17, 2006.
Jo Anne B. Barnhart,
Commissioner.

SYSTEM NUMBER: 60-0370

System name:

Representative Payee and Beneficiary Survey Data System, Social Security Administration (SSA)/Office of Income Security Programs (OISP).

Security classification:

None.

System location:

Office of Income Support Programs, Social Security Administration, 6401 Security Boulevard, Baltimore, Maryland 21235-6401.

Records may also be maintained at contractor sites. Contact the system manager at the address below to obtain contractor addresses.

Categories of individuals covered by the system:

This system maintains information about selected samples of representative payees and their beneficiaries receiving benefits under Title II and/or Title XVI of the Social Security Act.

Categories of records in the system:

Information in this system consists of data gathered during a specific study period to assess SSA's representative payee policies. This data will include identifiable information, such as name, Social Security number (SSN) and address, and survey information concerning representative payee and beneficiary demographic characteristics, record identifiers, descriptions of residence and living situations, and relationship of beneficiaries to the representative payees. Survey data will also cover the beneficiary's financial account information related to the representative payee's responsibilities, information concerning both the beneficiary and representative payee's knowledge of actual representative payee duties, and their perceptions of the beneficiary's need for this particular relationship and how these duties are being performed. Some limited information such as SSN, monthly benefit amount and diagnostic codes from SSA's administrative records and from current systems maintaining information relative to the selection of representative payees to claimants and beneficiaries may also be captured in this system to supplement and effectively support SSA's use of the survey data.

Authority for maintenance of the system:

Section 107 of Pub. L. No. 108-203, the Social Security Protection Act of 2004, that amended Section 1110 of the Social Security Act (42 U.S.C. 1310).

Purpose(s):

Information in this system will assist SSA in assessing how payments made to representative payees, who are not subject to on-site reviews or other random reviews under SSA policy or law, are managed and used on behalf of the beneficiaries.

Routine uses of records maintained in the system, including categories of users and the purpose of such uses:

Disclosure may be made for routine uses as indicated below:

1. To the Office of the President for responding to an inquiry received from that individual or from a third party acting on that individual's behalf.

2. To a congressional office in response to an inquiry from that office made on behalf of a subject of a record.

3. To a contractor under contract to the Social Security Administration (SSA), or under contract to another agency with funds provided by SSA, for the performance of research and statistical activities as directly related to this system of records.

4. To Department of Justice (DOJ), a court or other tribunal, or another party before such tribunal when:

a. The Social Security Administration (SSA), any component thereof, or

b. Any SSA employee in his/her official capacity; or

c. Any SSA employee in his/her individual capacity where DOJ (or SSA where it is authorized to do so) has agreed to represent the employee; or

d. The United States or any agency thereof where SSA determines that the litigation is likely to affect the operations of SSA or any of its components,

is a party to litigation or has an interest in such litigation, and SSA determines that the use of such records by DOJ, a court or other tribunal, or another party before such tribunal is relevant and necessary to the litigation, provided, however, that in each case, SSA determines that such disclosure is compatible with the purpose for which the records were collected.

5. To student volunteers, individuals working under a personal service contract, and other workers who technically do not have the status of Federal employees, when they are performing work for the Social Security Administration (SSA), as authorized by law and they need access to personally identifiable information in SSA records in order to perform their assigned Agency functions.

Policies and practices for storing, retrieving, accessing, retaining and disposing of records in the system:

Storage:

Records in this system are maintained electronically and manually.

Retrievability:

Records in this system will be retrieved by the name or SSN of the representative payee, or name or SSN of the beneficiary/recipient.

Safeguards:

The system of records will maintain information in electronic and manual forms. Only authorized SSA and contractor personnel who have a need for the information in the performance of their official duties are permitted access to the information. We will safeguard the security of the information by requiring the use of access codes to enter the computer system that will maintain the data and will store computerized records in secured areas that are accessible only to employees who require the information in performing their official duties. Manually maintained records are kept in locked cabinets or in otherwise secure areas.

Contractor personnel having access to data in the system of records will be required to adhere to SSA rules concerning safeguards, access and use of the data.

SSA and contractor personnel having access to the data in this system will be informed of the criminal penalties of the Privacy Act for unauthorized access to, or disclosure of, information maintained in this system. See 5 U.S.C. 552a(i)(1).

Retention and disposal:

Survey data will be populated into the system via a flat file produced by SSA's Office of Systems from the Master Representative Payee File system of records using the criteria specified by section 205(j) of the Social Security Act. This flat file will also contain current beneficiary contact data from the Master Beneficiary Record and/or the Supplemental Security Income and Special Veterans Benefits Record systems of records and some limited information from SSA's administrative records.

The system will cover only events related to the closed period of May through September of 2006, through the initial population of the database from SSA's RPS in March 2006.

In order to comply with the National Archives and Records Administration regulations, data will be destroyed after a seven-year retention period per Records Schedule NC1-47-81-9.

System manager and address:

Associate Commissioner, Office of Income Security Programs, Social Security Administration, 6401 Security Boulevard, Baltimore, Maryland 21235-6401.

Notification procedure:

This system contains limited data selected for statistical analysis. Individuals inquiring about their records in SSA programs may wish to consult other SSA systems of records which contain more detailed information.

An individual can determine if this system contains a record about him/her by writing to the systems manager at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses, is a criminal offense. These procedures are in accordance with SSA's Regulations at 20 CFR 401.40(c).

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date and place of birth, along with one other piece of information, such as mother's maiden name) and ask for his/her consent in providing information to the requesting individual. These procedures are in accordance with SSA's Regulations at 20 CFR 401.40(c).

If notification is requested by mail, an individual must include a notarized statement to SSA to verify his/her identity or must certify in the request that he/she is the person claimed to be and that he/she understands that the knowing and willful request for access to records concerning another individual under false pretense is a criminal offense. These procedures are in accordance with SSA Regulations at 20 CFR 401.40(c).

Record access procedures:

Same as Notification procedures. Also, an individual requesting access should reasonably identify and specify the information he/she is attempting to obtain. These procedures are in accordance with SSA Regulations (20 CFR 401.40(c)).

Contesting record procedures:

Same as Notification procedures. Requesters should also reasonably identify the record, specify the information they are contesting and the corrective action sought, and the reasons for the correction, with supporting justification showing how the record is untimely, incomplete, inaccurate, or irrelevant. These procedures are in accordance with SSA Regulations (20 CFR 401.65(a)).

Record source categories:

Information in this system of records is obtained from representative payees, beneficiaries and existing SSA systems of records such as the Master Beneficiary Record, 60-0090; Supplemental Security Income and Special Veterans Benefits Record, 60-0103; Master Representative Payee File, 60-0222; and survey data collected by the Contractor.

Systems exempt from certain provisions of the Privacy Act:

None.

[FR Doc. E6-4666 Filed 3-30-06; 8:45 am]

BILLING CODE 4191-02-P